DEPARTMENT OF HEALTH AND HUMAN SERVICES

Office of the Secretary

Notice of Meeting: Secretary's Advisory Committee on Genetics, Health, and Society

Pursuant to Public Law 92-463, notice is hereby given of the thirteenth meeting of the Secretary's Advisory Committee on Genetics, Health, and Society (SACGHS), U.S. Public Health Service. The meeting will be held from on Tuesday, July 10, 2007, from 8:30 a.m. to approximately 5 p.m. in Room 800 of the Hubert H. Humphrey Building, 200 Independence Avenue, SW., Washington, DC 20001. The meeting will be open to the public with attendance limited to space available. The meeting also will be Web cast.

The meeting will focus primarily on the issue of gene patents and licensing practices and consist of a series of presentations and discussions involving international experts on how other countries are addressing questions related to the impact of gene patents and licensing practices on patient access to genetic tests. In addition, the SACGHS task force on oversight of genetic testing will present a brief report on the progress of its fact-finding and consultative efforts with regard to the Secretary's charge. The Committee will also be updated about the public comments received in response to the Committee's solicitation on its draft report on pharmacogenomics.

Time will be provided for public comments. The Committee would welcome hearing from anyone wishing to provide public comment on any issue related to genetics, health, and society. Individuals who would like to provide public comment should notify the SACGHS Executive Secretary, Ms. Sarah Carr, by telephone at 301-496-9838 or e-mail at carrs@od.nih.gov. The SACGHS office is located at 6705 Rockledge Drive, Suite 750, Bethesda, MD 20892. Anyone planning to attend the meeting who is in need of special assistance, such as sign language interpretation or other reasonable accommodations, is also asked to contact the Executive Secretary.

Under authority of 42 U.S.C. 217a, Section 222 of the Public Health Service Act, as amended, the Department of Health and Human Services established SACGHS to serve as a public forum for deliberations on the broad range of human health and societal issues raised by the development and use of genetic and genomic technologies and, as warranted, to provide advice on these issues. The draft meeting agenda and other information about SACGHS, including information about access to the Web cast, will be available at the following Web site: http://www4.od.nih.gov/oba/sacghs.htm.

Dated: June 7, 2007.
Jennifer Spaeth,
Director, Office of Federal Advisory Committee Policy.

[FR Doc. 07-2963 Filed 6-14-07; 8:45 am]

BILLING CODE 4140-01-M